DEPARTMENT OF COMMERCE

National Oceanic and Atmospheric Administration

ENVIRONMENTAL PROTECTION AGENCY

Coastal Nonpoint Pollution Control Program: Approval Decision on the New Jersey Coastal Nonpoint Pollution Control Program

AGENCY: National Oceanic and Atmospheric Administration, U.S. Department of Commerce, and Environmental Protection Agency.

ACTION: Notice of intent to approve the New Jersey Coastal Nonpoint Program; invitation for public comment.

SUMMARY: The National Oceanic and Atmospheric Administration (NOAA) and Environmental Protection Agency (EPA) invite public comment on the agencies' intention to fully approve New Jersey's Coastal Nonpoint Source Pollution Control Program. Federal approval of such state programs is required under the Coastal Zone Act Reauthorization Amendments. Final approval would satisfy conditions that the agencies previously identified to the State to ensure conformity with required guidance specifying management measures to protect coastal waters from nonpoint source pollution.

DATES: Individuals or organizations wishing to submit comments on the draft decision document should do so by September 18, 2009.

ADDRESSES: Comments should be made to: John King, Chief, Coastal Programs Division (N/ORM3), Office of Ocean and Coastal Resource Management, NOS, NOAA, 1305 East-West Highway, Silver Spring, Maryland 20910, phone (301) 713-3155, x188, e-mail John.King@noaa.gov.

FOR FURTHER INFORMATION CONTACT: Allison Castellan, Coastal Programs Division, (N/ORM3), Office of Ocean and Coastal Resource Management, NOS, NOAA, 1305 East-West Highway, Silver Spring, Maryland 20910, phone (301) 713-3155, x125, e-mail Allison.Castellan@noaa.gov.

SUPPLEMENTARY INFORMATION: Notice is hereby given of the intent to fully approve the New Jersey Coastal Nonpoint Pollution Control Program (coastal nonpoint program) and of the availability of the draft decision document on conditions for the New Jersey coastal nonpoint program. Section 6217 of the Coastal Zone Act Reauthorization Amendments (CZARA), 16 U.S.C. 1455b, requires States and Territories with coastal zone management programs that have received approval under section 306 of the Coastal Zone Management Act to develop and implement coastal nonpoint programs. Coastal States and Territories were required to submit their coastal nonpoint programs to NOAA and EPA for approval in July 1995. NOAA and EPA conditionally approved the New Jersey coastal nonpoint program on November 18, 1997. NOAA and EPA have drafted a decision document describing how New Jersey has satisfied the conditions placed on its program and therefore has a fully approvable coastal nonpoint program.

NOAA and EPA are making the draft decision document for the New Jersey coastal nonpoint program available for a 30-day public comment period.

Copies of the draft decision document can be found on the NOAA Web site at http://coastalmanagement.noaa.gov/czm/16217/findings.html or may be obtained upon request from: Allison Castellan, Coastal Programs Division (N/ORM3), Office of Ocean and Coastal Resource Management, NOS, NOAA, 1305 East-West Highway, Silver Spring, Maryland 20910, phone (301) 713-3155, x125, e-mail Allison.Castellan@noaa.gov.

(Federal Domestic Assistance Catalog 11.419 Coastal Zone Management Program Administration)

Dated: August 11, 2009.
John H. Dunnigan,
Assistant Administrator for Ocean Services and Coastal Zone Management, National Oceanic and Atmospheric Administration.
July 24, 2009.
Michael H. Shapiro,
Acting Assistant Administrator, Office of Water, Environmental Protection Agency.

[FR Doc. E9-19820 Filed 8-18-09; 8:45 am]

BILLING CODE 3510-08-M